DEPARTMENT OF ENERGY

Federal Energy Regulatory Commission

Combined Notice of Filings #1

Take notice that the Commission received the following electric corporate filings:

Docket Numbers: EC16-101-000.

Applicants: White Pine Solar, LLC, White Oak Solar, LLC.

Description: Revisions to April 13, 2016 Application for Authorization Under Section 203 of the Federal Power Act and Request for Shortened Comment Period of White Pine Solar, LLC, et al.

Filed Date: 5/5/16.

Accession Number: 20160505-5273.

Comments Due: 5 p.m. ET 5/16/16.

Take notice that the Commission received the following electric rate filings:

Docket Numbers: ER10-1586-005; ER12-2511-008; ER10-1596-004; ER11-1936-004; ER10-1630-005.

Applicants: Big Sandy Peaker Plant, LLC, C.P. Crane LLC, High Desert Power Project, LLC, TPF Generation Holdings, LLC, Wolf Hills Energy, LLC.

Description: Notification of Change in Status of Big Sandy Peaker Plant, LLC, et al.

Filed Date: 5/9/16.

Accession Number: 20160509-5204.

Comments Due: 5 p.m. ET 5/31/16.

Docket Numbers: ER10-2881-024; ER10-2641-024; ER10-2663-024; ER10-2882-024; ER10-2883-024; ER10-2884-024; ER10-2885-024; ER10-2886-024; ER13-1101-019; ER13-1541-018; ER14-661-010; ER14-787-012; ER15-54-004; ER15-55-004; ER15-647-002; ER15-1475-005; ER15-2191-001; ER15-2593-004; ER16-452-004; ER16-705-002; ER16-706-002.

Applicants: Alabama Power Company, Oleander Power Project, Limited Partnership, Southern Company—Florida LLC, Southern Power Company, Mississippi Power Company, Georgia Power Company, Gulf Power Company, Southern Turner Cimarron I, LLC, Spectrum Nevada Solar, LLC, Campo Verde Solar, LLC, SG2 Imperial Valley LLC, Macho Springs Solar, LLC, Lost Hills Solar, LLC, Blackwell Solar, LLC, Kay Wind, LLC, North Star Solar, LLC, Grant Wind, LLC, Desert Stateline LLC, RE Tranquillity LLC, RE Garland LLC, RE Garland A LLC.

Description: Notification of Non-Material of Change in Status of Oleander Power Project, Limited Partnership, et al.

Filed Date: 5/9/16.

Accession Number: 20160509-5212.

Comments Due: 5 p.m. ET 5/31/16.

Docket Numbers: ER16-1437-000.

Applicants: 62SK 8ME LLC.

Description: Request of 62SK 8ME LLC to accept tariff filings with effective date of June 1, 2016, et al.

Filed Date: 5/6/16.

Accession Number: 20160506-5265.

Comments Due: 5 p.m. ET 5/16/16.

Docket Numbers: ER16-1438-000.

Applicants: 63SU 8ME LLC.

Description: Request of 62SK 8ME LLC to accept tariff filings with effective date of June 1, 2016, et al.

Filed Date: 5/6/16.

Accession Number: 20160506-5265.

Comments Due: 5 p.m. ET 5/16/16.

Docket Numbers: ER16-1439-000.

Applicants: 63SU 8ME LLC.

Description: Request of 62SK 8ME LLC to accept tariff filings with effective date of June 1, 2016, et al.

Filed Date: 5/6/16.

Accession Number: 20160506-5265.

Comments Due: 5 p.m. ET 5/16/16.

Docket Numbers: ER16-1650-000.

Applicants: Public Service Company of Colorado.

Description: Section 205(d) Rate Filing: 20160509_Losses Settlement Filing to be effective 1/1/2014.

Filed Date: 5/9/16.

Accession Number: 20160509-5161.

Comments Due: 5 p.m. ET 5/31/16.

Docket Numbers: ER16-1651-000.

Applicants: Public Service Company of Colorado.

Description: Section 205(d) Rate Filing: 20160509_Losses Settlement Filing ER15-266 to be effective4/16/2016.

Filed Date: 5/9/16.

Accession Number: 20160509-5163.

Comments Due: 5 p.m. ET 5/31/16.

Docket Numbers: ER16-1653-000.

Applicants: PJM Interconnection, L.L.C.

Description: Section 205(d) Rate Filing: Amendment to WMPA SA No. 3082, Queue No. W2-082 to be effective 4/30/2014.

Filed Date: 5/10/16.

Accession Number: 20160510-5039.

Comments Due: 5 p.m. ET 5/31/16.

Take notice that the Commission received the following qualifying facility filings:

Docket Numbers: QF16-783-000.

Applicants: Energy Partners I, LLC.

Description: Diagram(s) for Form 556 Line 10b of Energy Partners I, LLC under QF16-783.

Filed Date: 5/9/16.

Accession Number: 20160509-5172.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2016.
Nathaniel J. Davis, Sr.,
Deputy Secretary.

[FR Doc. 2016-11518 Filed 5-13-16; 8:45 am]

BILLING CODE 6717-01-P